DEPARTMENT OF LABOR

Employment and Training Administration

[TA-W-56,282]

Nova Trading, Monroe, NC; Notice of Termination of Investigation

Pursuant to Section 221 of the Trade Act of 1974, as amended, an investigation was initiated on January 4, 2005 in response to a worker petition filed on behalf of workers at Nova Trading, Monroe, North Carolina.

The petitioners have requested that the petition be withdrawn. Consequently, the investigation has been terminated.

Signed at Washington, DC, this 3rd day of February 2005.
Elliott S. Kushner,
Certifying Officer, Division of Trade Adjustment Assistance.

[FR Doc. E5-1109 Filed 3-14-05; 8:45 am]

BILLING CODE 4510-30-P